ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, from Monday through Wednesday, November 17-19, 2003, at the times and location noted below.

DATES: The schedule of events is as follows:

Monday, November 17, 2003

10-11 a.m. Executive Committee

11-Noon Planning and Budget Committee

1:30-3 p.m. Ad Hoc Committee on Public Outreach

3-4:30 Outdoor Developed Areas Ad Hoc Committee (Closed)

4:30-5:30 ADA and ABA Accessibility Guidelines Committee of the Whole (Closed)

Tuesday, November 18, 2003

9-Noon ADA and ABA Accessibility Guidelines Committee of the Whole (Closed)

1:30-5 p.m. Passenger Vessels Ad Hoc Committee (Closed)

Wednesday, November 19, 2003

8:30-10 a.m. Technical Programs Committee

10-Noon Public Rights-of-Way Ad Hoc Committee (Closed)

1:30-3 p.m Board Meeting (Parts Closed)

3-5 p.m. Public Rights-of-Way Ad Hoc Committee (Closed)

ADDRESSES: The meetings will be held at the Marriott at Metro Center, 775 12th St. NW., Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the July 9, 2003 Board Meeting Minutes

• Executive Committee Report

• Planning and Budget Committee Report

• Ad Hoc Committee on Outreach Report

• Technical Programs Committee Report

• Election of Vice Chair

Closed Meeting

• ADA and ABA Accessibility Guidelines Amendments and Cost Assessment

• Outdoor Developed Areas

• Passenger Vessels Accessibility Guidelines

• Public Rights-of-Way Accessibility Guidelines

All meetings are accessible to persons with disabilities. Sign language interpreters and an assistive listening system are available at all meetings. Persons attending Board meetings are requested to refrain from using perfume, cologne, and other fragrances for the comfort of other participants.

Lawrence W. Roffee,
Executive Director.

[FR Doc. 03-27807 Filed 11-4-03; 8:45 am]

BILLING CODE 8150-01-P